DEPARTMENT OF STATE

[Public Notice 6776]

Bureau of Western Hemisphere Affairs, Executive Order 11423, as Amended; Notice of Receipt of Application for a Presidential Permit for an International Pedestrian Bridge on the U.S.-Mexico Border Near San Diego, California and Tijuana, Baja California, Mexico

AGENCY: Department of State.

ACTION: Notice.

SUMMARY: The Department of State hereby gives notice that, on September 18, 2009, it received from Otay-Tijuana Venture, L.L.C., an application for a Presidential permit to authorize the construction, operation, and maintenance of a new international pedestrian bridge called the San Diego-Tijuana Airport Cross Border Facility (CBF) on the U.S.-Mexico border near San Diego, California and Tijuana, Baja California, Mexico. According to the application, Otay-Tijuana Venture, L.L.C., is a company created under Delaware law and consists of companies owned by American and Mexican investors with experience in real estate, corporate investing, and airport operations. Otay-Tijuana Venture, L.L.C. states that it is undertaking the project as a for-profit, commercial activity. According to the application, the CBF would enable ticketed airline passengers to travel between Mexico's Tijuana International Airport (TIJ) and San Diego, California, via an enclosed, elevated pedestrian bridge. The CBF will consist of: a main building on the U.S. side of the border housing U.S. Customs and Border Protection (CBP) inspection facilities along with shops and services to accommodate travelers; an approximately 525-foot pedestrian bridge from the main building on the U.S. side connecting into TIJ's passenger terminal on the Mexican side; and parking facilities and areas for car rentals and potentially bus service on the U.S. side. According to the application, the CBF would allow passengers to bypass San Diego's congestion-prone ports of entry and avoid driving through the City of Tijuana.

The Department's jurisdiction over this application is based upon Executive Order 11423 of August 16, 1968, as amended. As provided in E.O. 11423, the Department is circulating this application to relevant Federal and State agencies for review and comment. Under E.O. 11423, the Department has the responsibility to determine, taking into account input from these agencies and other stakeholders, whether issuance of a Presidential permit for this proposed bridge would be in the U.S. national interest.

DATES: Interested members of the public are invited to submit written comments regarding this application on or before December 31, 2009 to Mr. Stewart Tuttle, U.S.-Mexico Border Affairs Coordinator, via e-mail at WHA-BorderAffairs@state.gov, or by mail at WHA/MEX—Room 3909, Department of State, 2201 C St. NW., Washington, DC 20520.

FOR FURTHER INFORMATION CONTACT: Mr. Stewart Tuttle, U.S.-Mexico Border Affairs Coordinator, via e-mail at WHA-BorderAffairs@state.gov; by phone at 202-647-9894; or by mail at WHA/MEX—Room 3909, Department of State, 2201 C St. NW., Washington, DC 20520. General information about Presidential Permits is available on the Internet at http://www.state.gov/p/wha/rt/permit/.

SUPPLEMENTARY INFORMATION: This application and supporting documents are available for review in the Office of Mexican Affairs during normal business hours.

Dated: September 28, 2009.
Alex Lee,
Director, Office of Mexican Affairs, Department of State.

[FR Doc. E9-23812 Filed 10-1-09; 8:45 am]

BILLING CODE 4710-29-P